DEPARTMENT OF COMMERCE

National Oceanic and Atmospheric Administration

50 CFR Part 660

[Docket No. 020508114-2114-01; I.D. 030702C]

RIN 0648-AM97

Fisheries Off West Coast States and in the Western Pacific; Coral Reef Ecosystems Fishery Management Plan for the Western Pacific; Correction

AGENCY: National Marine Fisheries Service (NMFS), National Oceanic and Atmospheric Administration (NOAA), Commerce.

ACTION: Corrections to a proposed rule.

SUMMARY: This document corrects the phone number for the U.S. Fish and Wildlife Service (USFWS) that was listed in the proposed rule that was published on September 24, 2002. It also removes Secretary of Commerce and replaces it with Secretary of the Interior.

DATES: Effective October 22, 2002.

SUPPLEMENTARY INFORMATION:

Background

On September 24, 2002 (67 FR 59813), NMFS published a proposed rule in the Federal Register that would implement those parts of the Fishery Management Plan for Coral Reef Ecosystems of the Western Pacific Region that were approved by the Secretary of Commerce. The deadline for comments on the proposed rule is October 24, 2002. The interested public was directed to call the USFWS for more information concerning fishing within national wildlife refuges and their boundaries, but the phone number published for the USFWS was incorrect.

In that same issue, the phrase Secretary of Commerce was used instead of Secretary of the Interior and that is also incorrect.

Corrections

In the proposed rule FR Doc. 02-24013, in the issue of September 24, 2002, (67 FR 59813), make the following corrections:

1. On page 59814, in the second paragraph, in the second column, under Relation to Other Laws, remove the phone number for the USFWS and replace it with the following phone number:

“808-541-1201.”

§ 660.601 [Corrected]

2. On page 58919, in the first paragraph, in the second column, under § 660.601, remove “Secretary of Commerce” and replace it with “Secretary of the Interior.”

Authority: 16 U.S.C. 1801 et. seq.

Dated: October 17, 2002.
Rebecca Lent,
Deputy Assistant Administrator for Regulatory Programs, National Marine Fisheries Service.

[FR Doc. 02-26870 Filed 10-21-02; 8:45 am]

BILLING CODE 3510-22-S